DEPARTMENT OF AGRICULTURE

Natural Resources Conservation Service

Rehabilitation of Multiple Purpose Dam No. 5 of the Poteau River Watershed, Scott County, AR

AGENCY: Natural Resources Conservation Service, Department of Agriculture.

ACTION: Notice of a Finding of No Significant Impact.

SUMMARY: Pursuant to Section 102(2)(c) of the National Environmental Policy Act of 1969; the Council on Environmental Quality Regulations (40 CFR part 1500); and the Natural Resources Conservation Service Regulations (7 CFR part 650); the Natural Resources Conservation Service, U.S. Department of Agriculture, gives notice that an environmental impact statement is not being prepared for the rehabilitation of Multiple Purpose Dam No. 5 of the Poteau River Watershed, Scott County, Arkansas.

FOR FURTHER INFORMATION CONTACT: Kalven L. Trice, State Conservationist, Natural Resources Conservation Service, Rm 3416 Federal Building, 700 West Capital Avenue, Little Rock, AR 72201-3225, Telephone (501) 301-3100.

SUPPLEMENTARY INFORMATION: The environmental assessment of this federally assisted action indicates that the project will not cause significant local, regional, or national impacts on the environment. As a result of these findings, Kalven L. Trice, State Conservationist, has determined that the preparation and review of an environmental impact statement is not needed for this project.

The project will rehabilitate Multiple Purpose Dam (MPD) No. 5 to maintain the present level of flood control and water supply benefits and comply with the current dam safety and performance standards.

Rehabilitation of MPD No. 5 will require the dam to be modified to meet current performance and safety standards for a high hazard dam. The modification will consist of:

• Modifying the existing principal spillway inlet by raising the crest from Elev. 713.2 feet to Elev. 714.1 feet to provide 2,100 acre-feet of water supply storage and 316 acre-feet of submerged sediment storage (100-year) and 40 acre feet of aerated sediment storage for a total sediment storage of 356 acre-feet and replacing the drawdown gate and metal trash rack;

• Modifying the vegetated auxiliary spillway by raising the auxiliary spillway crest from the existing Elevation 723.5 feet to Elevation 724.3 feet to meet the requirements for the 100-year Principal Spillway Hydrograph and increasing the width of the auxiliary spillway from the existing 600 feet to 770 feet and

• Raising the top of dam from the existing Elev. 728.5 feet to Elev. 733.2 as required to pass the Probable Maximum Flood (PMF) without overtopping the dam.

All disturbed areas will be planted to plants that have wildlife values. The proposed work will not affect any prime farmland, endangered or threatened species, wetlands, or cultural resources.

Federal assistance will be provided under authority of the Small Watershed Rehabilitation Amendments of 2000 (Section 313, Pub. L. 106-472). Total project cost is estimated to be $2,048,300, of which $1,443,300 will be paid from the Small Watershed Rehabilitation funds and $605,000 from local funds.

The notice of a Finding of No Significant Impact (FONSI) has been forwarded to the Environmental Protection Agency and to various Federal, State, and local agencies and interested parties. A limited number of copies of the FONSI are available to fill single copy requests at the above address. Basic data developed during the environmental assessment are on file and may be reviewed by contacting Kalven L. Trice, State Conservationist.

No administrative action on implementation of the proposal will be taken until 30 days after the date of this publication in the Federal Register.

Dated: April 11, 2007.
Kalven L. Trice,
State Conservationist.

[FR Doc. E7-7405 Filed 4-18-07; 8:45 am]

BILLING CODE 3410-16-P